POSTAL SERVICE

Customized Postage

AGENCY: Postal Service.

ACTION: Notice of authorization of market test for Customized Postage.

SUMMARY: The Postal Service(™) provides notice of its intention to resume testing of the concept of Customized Postage for a period of one year commencing 20 calendar days from the date of publication of this notice in the Federal Register. PC Postage(®) is a method of providing evidence of pre-payment of United States postage using a personal computer and printer and Internet access to an authorized PC Postage provider infrastructure approved by the Postal Service under 39 CFR part 501. Like postage meters, PC Postage services facilitate customer access to postage payment and use of the mail. PC Postage and postage meter products that print digitally generated barcode indicia contain human readable and machine readable elements that facilitate mail processing and counterfeit detection due to identification enabling characteristics. The typical indicia design consists of two elements: a postage block and a distinctly separate block typically called an “ad plate.” The historical use of ad plates consists of printed advertising messages authorized, enabled, and controlled by a Postal Service approved postage meter or PC Postage provider. Customized Postage differs from conventional PC Postage in two respects: First, it utilizes the “ad plate” area to print a digital, graphic image. The image may be one selected from a “library” of images provided by the authorized PC Postage provider or a customer supplied image that meets acceptance criteria established by the PC Postage provider; and, second, instead of the customer printing the selected image on a personal computer the images are printed by the Customized Postage provider under controlled conditions and the finished product is mailed to the customer. With respect to postage meter ad plates the Postal Service will require evaluation and approval of any process established by an authorized provider which results in the printing of a graphic “ad plate.”

DATES: This notice is effective April 27, 2005.

FOR FURTHER INFORMATION CONTACT: Manager of Postage Technology Management, at 703-292-3691 or by fax at 703-292-4073.

SUPPLEMENTARY INFORMATION: In July 2004, the Postal Service authorized a limited market test of the first exemplar of Customized Postage. The test was concluded on September 30, 2004.

The Postal Service is interested in obtaining additional knowledge regarding the market for Customized Postage, and, therefore, is authorizing an additional market test of Customized Postage concepts. By this notice, the Postal Service invites interested parties to submit proposed concepts for consideration.

While each concept will be evaluated on its own merits, particular conditions may be required and agreed to by the Postal Service and the Customized Postage provider regarding the testing of that concept. The following conditions will be applied in common to all concepts:

1. The provider must be an authorized PC Postage provider, authorized postage meter manufacturer or distributor, or a company affiliated with an authorized postage provider under conditions respecting postage revenue security approved by the Postal Service in accordance with 39 CFR part 501.1 and subject to all procedures and regulations set forth throughout 39 CFR Chapter 501.

2. The Customized Postage indicia and other printed matter must meet all Postal Service requirements respecting placement on a mail piece, readability, avoidance of interference with and facilitation of mail processing, and identification of fraudulent indicia, as well as all Postal Service regulations pertaining to PC Postage products and services.

3. The provider must maintain an image control process which prevents the distribution of images that could harm the public image of the Postal Service in accordance with 39 CFR 501.6(g) and 501.23(d) and any subsequent incorporation of requirements specific to the evolving concept of Customized Postage.

4. Images which consist of notices or advertisements may not be included in Customized Postage produced during the test.

5. The test will be limited to full rate First-Class Mail®, Priority Mail® and Express Mail® services only.

6. The provider must agree that it has obtained all intellectual property licenses necessary to provide the approved service and that it will reimburse the Postal Service for any costs and damages the Postal Service may incur as a result of the provider's failure to honor this representation.

7. The provider must agree that the Postal Service has not exercised 28 U.S.C. 1498 with respect to the approved Customized Postage product.

8. The provider must design its Customized Postage indicia in a manner approved by the Postal Service, which reduces the likelihood that the public will be misled into believing that the product image originated with the Postal Service.

9. The Postal Service may suspend or cancel without prior notice and without liability for any costs incurred or losses sustained by a provider or customer, the approval of any customer as a test participant, or the Customized Postage test itself, in the event there is sufficient cause to believe that the test presents unacceptable risk to Postal Service revenues, degradation of the ability of the Postal Service to process or deliver mail produced by the test participants, an assessment that continuation of the test may expose the Postal Service or its customers to legal liability, or an assessment that continuation of the test will cause public or political embarrassment or harm to the Postal Service in any way.

10. The Postal Service will require approved providers of Customized Postage to pay a fee to defray the costs of the Postal Service in testing and evaluating Customized Postage.

11. Additional conditions and requirements may be set forth in individual product test approval letters.

Persons interested in submitting proposed Customized PC Postage concepts should contact: Manager, Postage Technology Management, U.S. Postal Service, 1735 North Lynn Street, Room 5011, Arlington, VA 22209-6030; (703) 292-3590 (Telephone); (703) 292-4073 (Fax); ptm@USPS.gov.

Neva Watson,
Attorney, Legislative.

[FR Doc. 05-8487 Filed 4-26-05; 8:45 am]

BILLING CODE 7710-12-P